OFFICE OF THE UNITED STATES TRADE REPRESENTATIVE

Notice With Respect to List of Countries Denying Fair Market Opportunities for Government-Funded Airport Construction Projects

AGENCY: Office of the United States Trade Representative.

ACTION: Notice.

SUMMARY: The U.S. Trade Representative has determined not to list any countries as denying fair market opportunities for U.S. products, suppliers, or bidders in foreign government-funded airport construction projects.

FOR FURTHER INFORMATION CONTACT: Kate Psillos, Deputy Assistant U.S. Trade Representative for WTO and Multilateral Affairs, Kathryn.W.Psillos@ustr.eop.gov or 202-395-9581, or Edward Marcus, Assistant General Counsel, Edward.D.Marcus@ustr.eop.gov or 202-395-0448.

SUPPLEMENTARY INFORMATION: Section 533 of the Airport and Airway Improvement Act of 1982, as amended by section 115 of the Airport and Airway Safety and Capacity Expansion Act of 1987, Public Law 100-223 (codified at 49 U.S.C. 50104), requires the U.S. Trade Representative to decide whether any foreign country has denied fair market opportunities to U.S. products, suppliers, or bidders in connection with airport construction projects of $500,000 or more that are funded in whole or in part by the government of such country. The Office of the United States Trade Representative has not received any complaints or other information indicating that U.S. products, suppliers, or bidders are being denied fair market opportunities in such airport construction projects. As a consequence, the U.S. Trade Representative has decided not to list any countries as denying fair market opportunities for U.S. products, suppliers, or bidders in foreign government-funded airport construction projects.

Greta Peisch,
General Counsel, Office of the United States Trade Representative.

[FR Doc. 2023-15087 Filed 7-14-23; 8:45 am]

BILLING CODE 3390-F3-P